COMMISSION ON CIVIL RIGHTS

Sunshine Act Notice

AGENCY: United States Commission on Civil Rights.

ACTION: Notice of briefing.

DATE AND TIME: Friday, August 17, 2012; 9 a.m. CDT.

PLACE: Sheraton Birmingham Hotel, Birmingham Ballroom, 21010 Richard Arrington Jr. Blvd. N., Birmingham, AL 35203.

Briefing Agenda

This briefing is open to the public.

Topic: The Civil Rights Implications of Current State-Level Immigration Laws.

I. Introductory Remarks by Chairman

II. Panel I: Speakers' Remarks

III. Panel I: Questions from Commissioners

IV. Panel II: Speakers' Remarks

V. Panel II: Questions from Commissioners

VI. Panel III: Speakers' Remarks

VII. Panel III: Questions from Commissioners

VIII. Panel IV: Speakers' Remarks

IX. Panel IV: Questions from Commissioners

X. Adjourn Briefing

Contact Person for Further Information

Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: August 8, 2012.
Peter Minarik,
Acting RPCU Chief, Office of the Staff Director.

[FR Doc. 2012-19750 Filed 8-8-12; 11:15 am]

BILLING CODE 6335-01-P